DEPARTMENT OF COMMERCE

Minority Business Development Agency

[Docket No.: 071116709-7711-01]

Extension of the Award Period for Certain Minority Business Enterprise Centers

AGENCY: Minority Business Development Agency, Commerce.

ACTION: Notice.

SUMMARY: The Minority Business Development Agency (MBDA) is publishing this notice to allow for up to a 180-day funded extension, on a non-competitive basis, of the overall award periods for those Minority Business Enterprise Centers (MBECs) identified in this notice. MBDA is taking this action to allow for continued program delivery by the incumbent MBEC operators while MBDA completes the competitive solicitation and award processes for the next three (3) year MBEC award period.

DATES: The award period and related funding, if approved by the Department of Commerce Grants Officer, will commence January 1, 2008 and will continue for a period not to exceed 180 days.

FOR FURTHER INFORMATION CONTACT: Mr. Efrain Gonzalez, Chief, Office of Business Development, Minority Business Development Agency, 1401 Constitution Avenue, NW., Room 5075, Washington, DC 20230. Mr. Gonzalez may be reached by telephone at (202) 482-1940 and by e-mail at egonzalez@mbda.gov.

SUPPLEMENTARY INFORMATION: Pursuant to Executive Order 11625, the MBEC Program provides standardized business assistance and development services directly to eligible minority-owned businesses. The MBEC Program is a key component of MBDA's overall business development assistance program and promotes the growth and competitiveness of minority business enterprises and further incorporates an entrepreneurial approach to the delivery of client services. This entrepreneurial strategy expands the reach and service delivery of the MBEC Program by requiring project operators to develop and to build upon strategic alliances with public and private sector partners as a means of serving eligible businesses within each MBEC's applicable geographical service area.

This notice amends MBDA's prior Federal Register notice dated August 17, 2004 (69 FR 51064), as amended on March 19, 2007 (72 FR 12769), to allow for up to a 180-day funded extension, on a non-competitive basis, of the overall award period for the following three MBECs: Miami/Ft. Lauderdale MBEC (M. Gill and Associates); Oklahoma City MBEC (Langston University); and the Honolulu MBEC (University of Hawaii). MBDA is taking this action to allow for continued program delivery by the incumbent MBEC operators while MBDA completes the competitive solicitation and award processes for the next three (3) year MBEC award period.

The allowable award extensions and additional funding set forth herein will be made at the sole discretion of MBDA and the Department of Commerce using the evaluation criteria and process used to determine the continuation of funding for the optional third-year of the original award. In making such determinations, the following factors will be considered: (1) The MBEC's program performance rating during the prior program period; (2) the availability of appropriated funds; and (3) MBDA and Department of Commerce priorities. MBDA will review the project's performance rating as evaluated through the standardized performance reports and assessments required under the MBEC Program.

Funding for the allowable award extensions listed in this notice is contingent upon the availability of Fiscal Year 2008 appropriations, which have not yet been appropriated for the NABEC program. MBDA therefore issues this notice subject to the appropriations made available under the current continuing resolution, H.J. Res. 52, “Making continuing appropriations for the fiscal year 2008, and for other purposes,” Public Law 110-92, as amended by H.R. 3222, Public Law 110-116. In no event will MBDA or the Department of Commerce be responsible to cover any costs incurred outside of the current award period by the incumbent operators of the MBEC projects affected by this notice if the MBEC Program fails to receive funding or is cancelled because of other MBDA or Department priorities. Publication of this announcement does not oblige MBDA or the Department to award any extensions or to obligate any available funds for such purpose.

Department of Commerce Pre-Award Notification Requirements for Grants and Cooperative Agreements

The Department of Commerce Pre-Award Notification Requirements for Grants and Cooperative Agreements contained in the December 30, 2004 Federal Register notice (69 FR 78389) are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: November 16, 2007.
Ronald J. Marin,
Financial Management Officer, Minority Business Development Agency.

[FR Doc. E7-22844 Filed 11-21-07; 8:45 am]

BILLING CODE 3510-21-P